SMALL BUSINESS ADMINISTRATION

[Disaster Declaration #13492 and #13493]

Mississippi Disaster Number MS-00064

AGENCY: U.S. Small Business Administration.

ACTION: Amendment 3.

SUMMARY: This is an amendment of the Presidential declaration of a major disaster for the State of Mississippi (FEMA-4101-DR), dated 02/13/2013.

Incident: Severe storms, tornadoes, and flooding.

Incident Period: 02/10/2013 through 02/22/2013.

Effective Date: 03/01/2013.

Physical Loan Application Deadline Date: 04/15/2013.

EIDL Loan Application Deadline Date: 11/13/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Mississippi, dated 02/13/2013 is hereby amended to include the following areas as adversely affected by the disaster:

Primary Counties: (Physical Damage and Economic Injury Loans): Jefferson Davis.

Contiguous Counties: (Economic Injury Loans Only):

Mississippi: Simpson.

All other information in the original declaration remains unchanged.

(Catalog of Federal Domestic Assistance Numbers 59002 and 59008)

James E. Rivera,
Associate Administrator for Disaster Assistance.

[FR Doc. 2013-05385 Filed 3-7-13; 8:45 am]

BILLING CODE 8025-01-P